SECURITIES AND EXCHANGE COMMISSION

Submission for OMB Review; Comment Request

Upon Written Request, Copies Available From: Securities and Exchange Commission, Office of Filings and Information Services, Washington, DC 20549

Extension: Rule 12g3-2, OMB Control No. 3235-0119, SEC File No. 270-104; Rule 7a-15 thru 7a-37, OMB Control No. 3235-0132, SEC File No. 270-115; Rule 13e-1, OMB Control No. 3235-0305, SEC File No. 270-255

Notice is hereby given that, pursuant to the Paperwork Reduction Act of 1995 (44 U.S.C. 3501 et seq.) the Securities and Exchange Commission (“Commission”) has submitted to the Office of Management and Budget requests for extension of the previously approved collections of information discussed below.

Rule 12g3-2 (OMB 3235-0119; SEC File No. 270-104) provides an exemption from Section 12(g) of the Securities Exchange Act of 1934 (Act) for foreign private issuers. Rule 12g3-2 is designated to provide investors in foreign securities with information about such securities and the foreign issuer. It affects approximately 1, 800 foreign issuer respondents at an estimated one burden hour per response for a total annual burden of 1,800 hours. All information required by Rule 12g3-2 is available to the public. All information provided under Rule 12g3-2 is mandatory.

Rules 7a-15 through 7a-37 (OMB 3235-0132; SEC File No. 270-115) sets forth the general requirements relating to applications, statements and reports that must be filed under the Trust Indenture Act of 1939 by issuers and trustees qualifying indentures for offerings of debt securities. Rules 7a-15 through 7a-37 are disclosure guidelines and do not directly result in any collection of information. The respondents are persons and entities subject to Trust Indenture Act requirements. No information collection burdens are imposed directly by these rules so they are assigned only one burden hour for administrative convenience.

Rule 13e-1 (OMB 3235-0305; SEC File No. 270-255) makes it unlawful for an issuer who has received notice that it is subject of a tender offer made under 14(d)(1) of the Act and that has commenced under Rule 14d-2 to purchase any of its equity securities during the tender offer unless it first files a statement with the Commission containing information require by the Rule. This rule is in keeping with the Commission's statutory responsibility to prescribe rules and regulations that are necessary for the protection of investors. Public companies are the respondents. An estimated 20 respondents file Rule 13e-1 submissions annually at an estimated 13 hours per response for a total annual burden of 260 hours. All information provided is made available to the public.

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503; and (ii) Michael E. Bartell, Associate Executive Director, Office of Information Technology, Securities and Exchange Commission, 450 Fifth Street, NW., Washington, DC 20549. Comments must be submitted to OMB within 30 days of this notice.

Dated: December 27, 2000.
Margaret H. McFarland,
Deputy Secretary.

[FR Doc. 01-313 Filed 1-4-00; 8:45 am]

BILLING CODE 8010-01-M